DEPARTMENT OF THE INTERIOR

Bureau of Ocean Energy Management

[OMB Control Number 1010-0081; Docket ID: BOEM-2023-0004]

Agency Information Collection Activities; Operations in the Outer Continental Shelf for Minerals Other Than Oil, Gas, and Sulfur

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) Control Number 1010-0081.

DATES: Comments must be received by BOEM no later than May 2, 2023.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0081 in the subject line of your comments. You may also view the ICR and its related documents by searching the docket number BOEM-2023-0004 at http://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its ICR to OMB for approval of this information collection. You should be aware that your entire comment—including your address, phone number, email address, or other personally identifiable information included in your comment—may be made publicly available at any time.

Even if BOEM withholds your personally identifiable information in the context of this ICR, your comment is subject to the Freedom of Information Act (FOIA) (5 U.S.C. 552). If your comment is requested under FOIA, your information will only be withheld if a determination is made that one of the FOIA exemptions to disclosure applies. Such a determination will be made in accordance with the Department of the Interior's FOIA regulations (43 CFR part 2) and applicable law.

For BOEM to consider withholding from disclosure your personally identifiable information, you must identify, in a cover letter, any information contained in your comment that, if released, would constitute a clearly unwarranted invasion of your privacy. You must also briefly describe any possible harmful consequences of the disclosure of information, such as embarrassment, injury, or other harm.

BOEM will make available for public inspection all comments in their entirety (except propriety information) submitted by organizations and businesses, or by individuals identifying themselves as representatives of organizations or businesses. BOEM protects proprietary information in accordance with FOIA and the Department's implementing regulations, 30 CFR 582.5 and 582.6, and applicable sections of 30 CFR parts 580 and 581. Items of a sensitive nature are not intended to be collected.

Title of Collection: “Operations in the Outer Continental Shelf for Minerals Other than Oil, Gas, and Sulfur.”

Abstract: The Outer Continental Shelf Lands Act (43 U.S.C. 1334 and 1337(k)(1)) authorizes the Secretary of the Interior to issue leases on available areas of the U.S. Outer Continental Shelf (OCS) to the highest qualified bidder to develop any mineral resources other than oil, gas, and sulfur. The Secretary may prescribe the royalty, rental, and other terms and conditions at the time the lease is offered. The act also authorizes the Secretary to issue regulations governing such leasing.

The Secretary delegated rulemaking authority to BOEM. BOEM's regulations at 30 CFR part 582 carry out the statutory requirements by governing such OCS leasing and mining.

Competitive leasing has not occurred for OCS minerals other than oil, gas, and sulfur in many years. Accordingly, BOEM has not generally collected information under this part of its regulations. However, given the regulatory requirements, the potential exists that BOEM may require information under this part. Therefore, BOEM seeks OMB renewal of this information collection.

BOEM will use the information required by 30 CFR part 582 to determine if lessees are complying with the regulations for mining minerals other than oil, gas, and sulfur. BOEM will also use the information to ensure orderly resource development; to protect the human, marine, and coastal environments; and to conduct the requisite technical and environmental evaluations that inform BOEM's decision to approve, disapprove, or require modification of the proposed activities.

OMB Control Number: 1010-0081.

Form Number: None.

Type of Review: Extension of a currently approved information collection.

Respondents/Affected Public: Potential respondents are OCS lessees.

Total Estimated Number of Annual Responses: 20 responses.

Total Estimated Number of Annual Burden Hours: 212 hours.

Respondent's Obligation: Mandatory.

Frequency of Collection: Monthly, quarterly, or on occasion.

Total Estimated Annual Non-Hour Burden Cost: None.

BOEM estimates this ICR's the annual hour burden at 212 hours. The following table details the regulatory sections containing information collections and their respective hour burden estimates. In calculating the burdens, we assumed that respondents perform certain requirements in the normal course of their activities. We consider these to be usual and customary and took that into account in estimating the burden.

Burden Table
Citation 30 CFR 582 | Reporting or recordkeeping requirement | Hour burden | Average number of annual responses | Annual burden hours
Subpart A—General
4; 21(b) | Governors, other Federal/State agencies, lessees, interested parties, and others review and provide comments/recommendations on all plans and environmental information | 10 | 1 | 10
4(b); 12(b)(2); 21; 22; 25; 26; 28 | Submit delineation plan, including environmental information, contingency plan, monitoring program, and various requests for approval referred to throughout; submit modifications and required information | 40 | 1 | 40
4(c); 12(c)(2); 21; 23; 25; 26; 28 | Submit testing plan, including environmental information, contingency plan, monitoring program, and various requests for approval referred to throughout; submit modifications and required information | 40 | 1 | 40
4(d); 12(d)(2); 21; 24; 25; 26; 28 | Submit mining plan, including environmental information, contingency plan, monitoring program, and various requests for approval referred to throughout; submit modifications and required information | 40 | 1 | 40
5 | Request non-disclosure of G&G info; provide consent; demonstrate loss of competitive position | 10 | 1 | 10
6 | Governors of adjacent States request proprietary data, samples, etc., and disclosure agreement with BOEM | 10 | 1 | 10
7 | Governor of affected State initiates negotiations on jurisdictional controversy, etc., and enters agreement with BOEM | 10 | 1 | 10
Subtotal |  |  | 7 | 160
Subpart B—Jurisdiction and Responsibilities of Director
11(c); 20(h); 30 | Apply for right-of-use and easement; submit confirmations, demonstrations, and notifications | 30 | 1 | 30
11(d); | Request consolidation/splitting of two or more OCS mineral leases or portions | 1 | 1 | 1
20(h) | Request approval of operations or departure from operating requirements | Burden included with applicable plans |  | 0
14 | Submit response copy of form BOEM-1832 indicating date violations (INCs) corrected | 2 | 1 | 2
Subtotal |  |  | 3 | 33
Subpart C—Obligations and Responsibilities of Lessees
20(a), (g); 29(i) | Make available all mineral resource or environmental data and information; submit reports and maintain records, as specified | Burden included with individual reporting requirements below |  | 0
20(b) thru (e) | Submit designation of payor, operator, or local representative; submit changes, terminations, notifications | 1 | 1 | 1
21(d) | Notify BOEM of preliminary activities | 1 | 1 | 1
29(a) | Submit monthly report of minerals produced; request extension | 1 | 1 | 1
29(b), (c) | Submit quarterly status and final report on exploration and/or testing activities | 5 | 1 | 5
29(d) | Submit results of environmental monitoring activities | 5 | 1 | 5
29(e) | Submit marked and certified maps annually or as required | 1 | 1 | 1
29(f) | Maintain rock, minerals, and core samples for 5 years and make available upon request | 1 | 1 | 1
29(g) | Maintain original data and information and navigation tapes as long as lease is in effect and make available upon request | 1 | 1 | 1
29(h) | Maintain hard mineral records and make available upon request | 1 | 1 | 1
Subtotal |  |  | 9 | 17
Subpart D—Payments
40 | Submit surety, personal bond, or approved alternative | 2 | 1 | 2
Subpart E—Appeals
50; 15 | File an appeal | Burden exempt under 5 CFR 1320.4(a)(2), (c) |  | 0
Total Burden |  |  | 20 | 212

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2023-04400 Filed 3-2-23; 8:45 am]

BILLING CODE 4340-98-P